DEPARTMENT OF AGRICULTURE

Forest Service

Northeast Oregon Forests Resource Advisory Committee (RAC)

AGENCY: Forest Service, USDA.

ACTION: Notice of meetings.

SUMMARY: Pursuant to the authorities in the Federal Advisory Committees Act (Pub. L. 92-463), the Northeast Oregon Forests Resource Advisory Committee (RAC) will meet on June 2-3, 2005, in Pendleton, Oregon. The purpose of the meeting is to discuss the selection of Title II projects under Public Law 106-393, H.R. 2389, the Secure Rural Schools and Community Self-Determination Act of 2000, also called the “Payment to States” Act and tour Title II project sites on the Umatilla National Forest.

DATES: The meeting will be held on June 2, 2005, from 8 a.m. to 5 p.m. and June 3, 2005, from 8 a.m. until 3 p.m.

ADDRESSES: The June 2, 2005, meeting will be held at the Oxford Inn and Suites Motel conference room, located at 2400 SW Court Place, Pendelton, Oregon. The June 3, 2005, Title II project tour will start at 8 a.m., Oxford Inn and Suites Motel, located at 2400 SW Court Place, Pendleton, Oregon and proceed through the Umatilla National Forest.

FOR FURTHER INFORMATION CONTACT: Jennifer Harris, Designated Federal Official, USDA, Malheur National Forest, P.O. Box 909, John Day, Oregon 97845. Phone: (541) 575-3000.

SUPPLEMENTARY INFORMATION: At the June 2 meeting the RAC will review and recommend FY 2006 Title II project proposals and receive an update on how previous fiscal year projects are progressing. A public comment period will be provided at 1 p.m. and individuals will have the opportunity to address the committee at that time. On June 3 the committee will tour the Umatilla National Forest and review completed Title II projects.

Dated: April 25, 2005.
Jennifer L. Harris,
Designated Federal Official.

[FR Doc. 05-9027 Filed 5-5-05; 8:45 am]

BILLING CODE 3410-DK-M